DEPARTMENT OF HEALTH AND HUMAN SERVICES

Food and Drug Administration

[Docket No. 2004F-0374]

Kraft Foods Global, Inc.; Filing of Food Additive Petition

AGENCY: Food and Drug Administration, HHS.

ACTION: Notice.

SUMMARY: The Food and Drug Administration (FDA) is announcing that Kraft Foods Global, Inc., has filed a petition proposing that the food additive regulations be amended to permit the use of vitamin D3 in cheese and cheese products at a level above that currently allowed by the regulations.

FOR FURTHER INFORMATION CONTACT: Judith L. Kidwell, Center for Food Safety and Applied Nutrition (HFS-265), Food and Drug Administration, 5100 Paint Branch Pkwy., College Park, MD 20740-3835, 202-418-3354.

SUPPLEMENTARY INFORMATION: Under the Federal Food, Drug, and Cosmetic Act (sec. 409(b)(5) (21 U.S.C. 348(b)(5))), notice is given that a food additive petition (FAP No. 4A4758) has been filed by Kraft Foods Global, Inc., c/o Hogan and Hartson, 555 13th Street, NW., Washington, DC 20004. The petition proposes to amend the food additive regulations in § 172.380 Vitamin D3 (21 CFR 172.380) to permit the use of vitamin D3 in cheese and cheese products at a level above that permitted under § 184.1950 Vitamin D (21 CFR 184.1950).

The agency has determined under 21 CFR 25.32(k) that this action is of a type that does not individually or cumulatively have a significant effect on the human environment. Therefore, neither an environmental assessment nor an environmental impact statement is required.

Dated: August 9, 2004.
Laura M. Tarantino,
Director, Office of Food Additive Safety, Center for Food Safety and Applied Nutrition.

[FR Doc. 04-20473 Filed 9-8-04; 8:45 am]

BILLING CODE 4160-01-S